DEPARTMENT OF HOMELAND SECURITY

Bureau of Customs and Border Protection

Retraction of Revocation Notice

AGENCY: Bureau of Customs and Border Protection, U.S. Department of Homeland Security.

ACTION: General notice.

SUMMARY: The below-identified Customs broker license was erroneously included in a list of revoked Customs broker licenses.

Name | License | Port Name
Sherri Boynton | 10691 | Los Angeles.

Customs broker license No. 10691 remains valid.

Dated: June 10, 2004.
Jayson P. Ahern,
Assistant Commissioner, Office of Field Operations.

[FR Doc. 04-14039 Filed 6-21-04; 8:45 am]

BILLING CODE 4820-02-P